DEPARTMENT OF TRANSPORTATION

Federal Aviation Administration

14 CFR Part 39

[Docket No. 2002-NM-156-AD]

RIN 2120-AA64

Airworthiness Directives; Dornier Model 328-300 Series Airplanes

AGENCY: Federal Aviation Administration, DOT.

ACTION: Notice of proposed rulemaking (NPRM).

SUMMARY: This document proposes the supersedure of an existing airworthiness directive (AD), applicable to certain Dornier Model 328-300 series airplanes, that currently requires repetitive inspections of motive flow check valves and adjacent parts for fuel leaks, and replacement of the valves if leaks are detected. This action would require new repetitive engine operational tests. This action would also require replacement of the motive flow check valves with new parts, which would constitute terminating action for the repetitive inspections and engine operational tests. The actions specified by the proposed AD are intended to prevent leakage of fuel from the motive flow check valves, which could result in fuel vapors coming into contact with fuel ignition sources and consequent fuel tank explosion and fire. This action is intended to address the identified unsafe condition.

DATES: Comments must be received by March 29 2004.

ADDRESSES: Submit comments in triplicate to the Federal Aviation Administration (FAA), Transport Airplane Directorate, ANM-114, Attention: Rules Docket No. 2002-NM-156-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-156-AD” in the subject line and need not be submitted in triplicate. Comments sent via the Internet as attached electronic files must be formatted in Microsoft Word 97 or 2000 or ASCII text.

The service information referenced in the proposed rule may be obtained from AvCraft Aerospace GmbH, P.O. Box 1103, D-82230 Wessling, Germany. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-156-AD.” The postcard will be date stamped and returned to the commenter.

Availability of NPRMs

Any person may obtain a copy of this NPRM by submitting a request to the FAA, Transport Airplane Directorate, ANM-114, Attention: Rules Docket No. 2002-NM-156-AD, 1601 Lind Avenue, SW., Renton, Washington 98055-4056.

Discussion

On April 23, 2001, the FAA issued AD 2001-09-04, amendment 39-12209 (66 FR 21276, April 30, 2001), applicable to certain Dornier Model 328-300 series airplanes, to require repetitive inspections of motive flow check valves and adjacent parts for fuel leaks, and replacement of the valves if leaks are detected. That action was prompted by reports of cracks on the motive flow check valves, which resulted in fuel leaks. The requirements of that AD are intended to prevent leakage of fuel from the motive flow check valves, which could result in fuel vapors coming into contact with fuel ignition sources.

Actions Since Issuance of Previous Rule

The preamble to AD 2001-09-04 explains that we considered the requirements “interim action” until a final action was identified, at which time we may consider further rulemaking. The manufacturer has developed a final action, replacement of the motive flow check valves with new check valves, and we have determined that further rulemaking is necessary. This proposed AD follows from that determination.

Explanation of Relevant Service Information

Dornier has issued Service Bulletin SB-328J-28-047, dated May 18, 2001, which describes procedures for replacement of the existing check valve having part number (P/N) 106-0007-01 with a new check valve having P/N 106-0007-02. The Luftfahrt-Bundesamt (LBA), which is the airworthiness authority for Germany, classified this service bulletin as mandatory and issued German airworthiness directive 2001-058/2, dated June 27, 2002, to ensure the continued airworthiness of these airplanes in Germany.

FAA's Conclusions

This airplane model is manufactured in Germany and is type certificated for operation in the United States under the provisions of section 21.29 of the Federal Aviation Regulations (14 CFR 21.29) and the applicable bilateral airworthiness agreement. Pursuant to this bilateral airworthiness agreement, the LBA has kept us informed of the situation described above. We have examined the findings of the LBA, reviewed all available information, and determined that AD action is necessary for products of this type design that are certificated for operation in the United States.

Explanation of Requirements of Proposed AD

Since an unsafe condition has been identified that is likely to exist or develop on other airplanes of the same type design registered in the United States, the proposed AD would supersede AD 2001-09-04 to continue to require repetitive inspections of motive flow check valves and adjacent parts for fuel leaks, and replacement of the valves if leaks are detected. The proposed AD also would require repetitive engine operational tests and eventual replacement of the motive flow check valves with new parts having a different part number. Replacement of the parts would constitute terminating action for the repetitive inspections. The actions would be required to be accomplished in accordance with the service bulletins described previously.

Clarification of Compliance Time

The service bulletin and the German airworthiness directive recommend accomplishing the part replacement “at the next suitable planned maintenance.” Because maintenance schedules vary among operators, this proposed AD would require accomplishment of the part replacement within 12 months after the effective date of this AD.

Explanation of Repetitive Test Requirement

This proposed AD includes a requirement for repetitive engine operational tests. The repetitive tests begin after a new motive flow fuel valve installed on the airplane has accumulated 800 flight cycles. This requirement was inadvertently omitted from AD 2001-09-04.

Cost Impact

There are approximately 28 airplanes of U.S. registry that would be affected by this proposed AD.

The repetitive inspections that are currently required by AD 2001-09-04 take approximately 1 work hour per airplane to accomplish, at an average labor rate of $65 per work hour. Based on these figures, the cost impact of the currently required actions on U.S. operators is estimated to be $1,820, or $65 per airplane, per inspection cycle.

The new actions that are proposed in this AD would take approximately 4 work hours per airplane to accomplish, at an average labor rate of $65 per work hour. Required parts would be provided by the manufacturer at no charge. Based on these figures, the cost impact of the proposed requirements of this AD on U.S. operators is estimated to be $7,280, or $260 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12209 (66 FR 21276, April 30, 2001), and by adding a new airworthiness directive (AD), to read as follows:

Fairchild Dornier GmbH (formerly Dornier Luftfahrt GmbH): Docket 2002-NM-156-AD. Supersedes AD 2001-09-04, Amendment 39-12209.

Applicability: Model 328-300 series airplanes, certificated in any category, equipped with a motive flow check valve having part number (P/N) 106-0007-01.

Compliance: Required as indicated, unless accomplished previously.

To prevent leakage of fuel from the motive flow check valves, which could result in fuel vapors coming into contact with fuel ignition sources and consequent fuel tank explosion and fire, accomplish the following:

Restatement of Requirements of AD 2001-09-04

Initial Inspection

(a) Prior to the accumulation of 800 total flight cycles on the motive flow check valve P/N 106-0007-01, or within 3 days after May 15, 2001 (the effective date of AD 2001-09-04, amendment 39-12209), whichever occurs later: Perform a general visual inspection of the lower inboard leading edge/pylon area and the pylon drain tube to detect fuel droplets or fuel staining, in accordance with paragraph 2.B of the Accomplishment Instructions of Dornier Alert Service Bulletin ASB 328J-28-007, dated September 20, 2000. If any fuel droplet or fuel staining is detected, prior to further flight, perform an additional inspection and operational test, in accordance with paragraphs 2.C and 2.D of the Accomplishment Instructions of Dornier Alert Service Bulletin ASB 328J-28-007, dated September 20, 2000.

Note 1: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Repetitive Inspections

(b) Within 15 days or 60 flight hours after May 15, 2001, whichever occurs first: Perform a general visual inspection of the motive flow check valve to detect fuel leaks, in accordance with paragraph 2.C of the Accomplishment Instructions of Dornier Alert Service Bulletin ASB 328J-28-007, dated September 20, 2000.

(1) If no fuel leak is detected, repeat the general visual inspection of the motive flow check valve at least every 15 days or 60 flight hours, whichever occurs first, until paragraph (b)(2) or paragraph (e) of this AD is accomplished.

(2) If any fuel leak is detected, prior to further flight, replace the motive flow fuel valve with a new valve, in accordance with the alert service bulletin. After the new valve has accumulated 800 flight cycles, do the general visual inspection of the valve required by paragraph (b) of this AD, including the repetitive inspection, at least every 15 days or 60 flight hours, whichever occurs first, until paragraph (e) of this AD is accomplished.

(c) Within 400 flight hours after May 15, 2001: Perform an engine operational test and a general visual inspection of the motive flow check valve to detect a fuel leak, in accordance with paragraphs 2.C and 2.D of the Accomplishment Instructions of Dornier Alert Service Bulletin ASB 328J-28-007, dated September 20, 2000.

(1) If no fuel leak is detected, repeat the engine operational test and the general visual inspection of the motive flow check valve at least every 400 flight hours, until paragraph (c)(2) or paragraph (e) of this AD is accomplished.

(2) If any fuel leak is detected, prior to further flight, replace the motive flow fuel valve with a new valve, in accordance with the alert service bulletin. After the new valve has accumulated 800 flight cycles, do the general visual inspection of the valve required by paragraph (c) of this AD, including the repetitive inspections, at least every 400 flight hours.

New Requirements of This AD

Repetitive Tests

(d) If any motive flow fuel valve is replaced per the requirements of paragraph (c)(2) of this AD: At the later of the times specified in paragraphs (d)(1) and (d)(2) of this AD, do the engine operational test required by paragraph (c) of this AD. Thereafter, repeat the engine operational test at intervals not to exceed 400 flight hours, until paragraph (e) of this AD is accomplished.

(1) Within 800 flight cycles after the replacement of any motive flow fuel valve.

(2) Within 30 days or 90 flight hours after the effective date of this AD, whichever is first.

Terminating Action for Repetitive Inspections and Tests

(e) Within 12 months after the effective date of this AD: Remove any motive flow check valve having P/N 106-0007-01 and replace it with a motive flow check valve having P/N 106-0007-02 in accordance with the Accomplishment Instructions of Dornier Service Bulletin SB-328J-28-047, dated May 18, 2001. Accomplishment of the replacement is terminating action for the repetitive inspections and engine operational tests required by paragraphs (b), (c) and (d) of this AD.

Parts Installation

(f) As of the effective date of this AD, no person may install a motive flow check valve, P/N 106-0007-01, on any airplane.

Alternative Methods of Compliance

(g) In accordance with 14 CFR 39.19, the Manager, International Branch, ANM-116, FAA, Transport Airplane Directorate, is authorized to approve alternative methods of compliance for this AD.

Note 2: The subject of this AD is addressed in German airworthiness directive 2001-058/2, dated June 27, 2002.

Issued in Renton, Washington, on February 20, 2004.
Ali Bahrami,
Acting Manager, Transport Airplane Directorate, Aircraft Certification Service.

[FR Doc. 04-4257 Filed 2-25-04; 8:45 am]

BILLING CODE 4910-13-P